DEPARTMENT OF THE INTERIOR

Fish and Wildlife Service

Conference of the Parties to the Convention on International Trade in Endangered Species of Wild Fauna and Flora (CITES); Fourteenth Regular Meeting; Proposed Resolutions, Decisions, and Agenda Items Being Considered; Taxa Being Considered for Amendments to the CITES Appendices; Public Meeting; Request for Comments or Information; Observer Information

AGENCY: Fish and Wildlife Service, Interior.

ACTION: Notice.

SUMMARY: We, the United States, as a Party to the Convention on International Trade in Endangered Species of Wild Fauna and Flora (CITES), may submit proposed resolutions, decisions, and agenda items for consideration at meetings of the Conference of the Parties to CITES. We may also propose amendments to the CITES Appendices for consideration at meetings of the Conference of the Parties. The fourteenth regular meeting of the Conference of the Parties to CITES (CoP14) will be held in The Hague, Netherlands, June 3-15, 2007.

With this notice, we, the Fish and Wildlife Service (the Service): describe proposed resolutions, decisions, and agenda items that the United States is considering submitting for consideration at CoP14; describe proposed amendments to the CITES Appendices (species proposals) that the United States is considering submitting for consideration at CoP14; invite your comments and information on these proposals; announce a public meeting to discuss these proposals; and provide information on how non-governmental organizations based in the United States can attend CoP14 as observers.

DATES: The public meeting will be held on December 11, 2006, at 1:30 p.m. We will consider written information and comments you submit concerning potential species proposals, and proposed resolutions, decisions, and agenda items that the United States is considering submitting for consideration at CoP14, and other items relating to CoP14, if we receive them by December 22, 2006.

ADDRESSES:

Public Meeting

The public meeting will be held in the Rachel Carson Room, in the Department of the Interior at 18th and C Streets, NW., Washington, DC. Directions to the building can be obtained by contacting the Division of Management Authority (see FOR FURTHER INFORMATION CONTACT, below). Due to building security in the Department of the Interior, persons planning to attend the meeting must notify the Division of Management Authority by December 8, 2006, to allow us sufficient time to provide the building security staff with a list of persons planning to attend. For more information, see “Announcement of Public Meeting” under SUPPLEMENTARY INFORMATION.

Comment Submission

Comments pertaining to proposed resolutions, decisions, and/or agenda items should be sent to the Division of Management Authority; U.S. Fish and Wildlife Service; 4401 North Fairfax Drive; Room 700; Arlington, VA 22203; or via E-mail at: cop14@fws.gov; or via fax at: 703-358-2298. Comments pertaining to species proposals should be sent to the Division of Scientific Authority; U.S. Fish and Wildlife Service; 4401 North Fairfax Drive; Room 750; Arlington, VA 22203; or via e-mail at: scientificauthority@fws.gov; or via fax at: 703-358-2276.

FOR FURTHER INFORMATION CONTACT: For information pertaining to proposed resolutions, decisions, and agenda items contact: Acting Chief, Division of Management Authority, Branch of CITES Operations; phone 703-358-2095; fax 703-358-2298; E-mail: cop14@fws.gov. For information pertaining to species proposals contact: Robert R. Gabel, Chief, Division of Scientific Authority; phone 703-358-1708; fax 703-358-2276; E-mail: scientificauthority@fws.gov.

SUPPLEMENTARY INFORMATION:

Background

The Convention on International Trade in Endangered Species of Wild Fauna and Flora, hereinafter referred to as CITES or the Convention, is an international treaty designed to control and regulate international trade in certain animal and plant species that are now or potentially may become threatened with extinction. These species are listed in Appendices to CITES, which are available on the CITES Secretariat's Web site at http://www.cites.org/eng/app/index.shtml. Currently, 169 countries, including the United States, are Parties to CITES. The Convention calls for biennial meetings of the Conference of the Parties, which reviews its implementation, makes provisions enabling the CITES Secretariat in Switzerland to carry out its functions, considers amendments to the list of species in Appendices I and II, considers reports presented by the Secretariat, and makes recommendations for the improved effectiveness of CITES. Any country that is a Party to CITES may propose amendments to Appendices I and II, and resolutions, decisions, and/or agenda items for consideration by all the Parties.

This is our second in a series of Federal Register notices that, together with announced public meetings, provide you with an opportunity to participate in the development of the U.S. negotiating positions for CoP14. We published our first CoP14-related Federal Register notice on January 20, 2006 (71 FR 3319), and with it we requested information and recommendations on species proposals and proposed resolutions, decisions, and agenda items for the United States to consider submitting for consideration at CoP14. You may obtain information on that Federal Register notice from the following sources: for information on proposed resolutions, decisions, and agenda items, contact the Division of Management Authority (ADDRESSES); and for information on species proposals, contact the Division of Scientific Authority (ADDRESSES). Our regulations governing this public process are found in 50 CFR 23.31-23.39.

CoP14 is scheduled to be held in The Hague, Netherlands, June 3-15, 2007.

I. Recommendations for Resolutions, Decisions, and Agenda Items for the United States To Consider Submitting for CoP14

In our Federal Register notice published on January 20, 2006 (71 FR 3319), we requested information and recommendations on potential resolutions, decisions, and agenda items for the United States to submit for consideration at CoP14. We received recommendations for resolutions, decisions, and agenda items from the following organizations: the Species Survival Network (SSN), the International Environmental Law Project (IELP), and the American Herbal Products Association (AHPA).

We considered all of the recommendations of the above organizations, as well as the factors described in the U.S. approach for CoP14 discussed in our January 20, 2006, Federal Register notice, when compiling a list of possible resolutions, decisions, and agenda items that the United States is likely to submit for consideration by the Parties at CoP14; and lists of resolutions, decisions, and agenda items for consideration at CoP14 that the United States either is currently undecided about submitting, is not considering submitting at this time, or plans to address in other ways. The United States may consider submitting documents on some of the issues for which it is currently undecided or not considering submitting at this time, depending on comments received and the outcome of discussions of these issues in the CITES Animals, Plants, and Standing Committees, or additional consultations with range country governments and knowledgeable experts.

Please note that, in sections A, B, and C below, we have listed only those resolutions, decisions, and agenda items that the United States is likely to submit, currently undecided about submitting, or currently not planning to submit. We have posted an extended version of this notice on our Web site at http://www.fws.gov/international, with text describing each of these issues and explaining the rationale for the tentative U.S. position on each issue. Copies of the extended version of the notice are also available from the Division of Management Authority at the above address.

We welcome your comments and information regarding the resolutions, decisions, and agenda items that the United States is likely to submit, currently undecided about submitting, or currently planning not to submit.

A. What Resolutions, Decisions, and Agenda Items Is the United States Likely To Submit for Consideration at CoP14?

1. Proposal to amend Resolutions Conf. 11.21 and Conf. 9.25 (Rev.) regarding use of annotations in Appendices II and III.

2. Discussion document to call for a review of the effectiveness of the CITES universal crocodilian tagging system (Res. Conf. 11.12).

3. Proposed decision for Parties to develop guidelines on the definition and use of purpose codes.

4. Discussion document regarding the procedures for changing text in the “Interpretation” section of the Appendices.

5. Resolution on the cooperation between CITES and the International Tropical Timber Organization (ITTO).

6. Document on production systems, including recommendations pertaining to use of the “ranching” code on CITES permits and certificates.

B. On What Resolutions, Decisions, and Agenda Items Is the United States Still Undecided, Pending Additional Information and Consultations?

1. Document strengthening the implementation of nationally established export quotas.

2. Resolution or discussion document on wildlife trade and the spread of infectious diseases.

3. Discussion document or proposed resolution on the issue of “introduction from the sea.”

4. Discussion document on the tiger conservation crisis and efforts to halt illegal trade in tigers.

5. Discussion document regarding monitoring and control of international trade in caviar in customs-free zones and for airline and cruiseline catering.

6. Document welcoming the launch of the Coalition Against Wildlife Trafficking.

7. Resolution or discussion document concerning whaling and whale stocks under the competence of the International Whaling Commission (IWC).

C. What Resolutions, Decisions, and Agenda Items Is the United States Not Planning To Submit for Consideration at CoP14 Unless We Receive Significant Additional Information?

1. Document clarifying the role of non-detriment findings when establishing export quotas.

2. Proposed resolution establishing and clarifying guidelines for making non-detriment findings for the import of Appendix-I, and the export of Appendix-I and -II, species.

3. Draft decision encouraging Parties to implement National Enforcement Action Plans (NEAPs).

4. Resolution to suspend trade in bigleaf mahogany (Swietenia macrophylla) from Peru.

5. Resolution to create an action plan on Internet trade in wildlife.

6. Revision of Resolution Conf. 12.3 (Rev. CoP13) on permit verification requirements.

7. Proposed revision of Annotation #10 for plants listed in Appendix II or III.

II. Recommendations for Species Proposals for the United States To Consider Submitting at CoP14

In our Federal Register notice of January 20, 2006 (71 FR 3319), we requested information and recommendations on potential species proposals for the United States to consider submitting for CoP14. We received recommendations from the public for possible proposals involving 18 taxa. We have undertaken initial assessments of the available trade and biological information on all of these taxa. Based on these assessments, we have made provisional determinations of whether or not to proceed with the development of proposals to list or delist species, or transfer them from one Appendix to another. These determinations were made by considering the quality of biological and trade information available on the species; the presence, absence, and effectiveness of other mechanisms that may preclude the need for a CITES listing (e.g., range country actions or other international agreements); and availability of resources. Furthermore, our assignment of a taxon to one of these categories, which reflects the likelihood of our submitting a proposal, included consideration of the following factors, which reflect the U.S. approach for CoP14 discussed in our January 20, 2006, Federal Register notice:

(1) Is it a native U.S. species that is or may be significantly affected by trade, or if it is a currently listed U.S. species, does the listing accurately reflect the biological and trade status of the species?

(2) Is it a native U.S. species that is not at this time significantly impacted by trade within the United States, but is being significantly impacted elsewhere in its range?

(3) Is it a foreign species, not native to the United States, but which is or may be significantly affected by trade, and the United States is a significant component of the trade (i.e., as an importing country)?

(4) Is it a species for which the United States is neither a range country nor a country significantly involved in trade, but for which trade is a serious threat to the continued existence of the species, other mechanisms are lacking or ineffective for bringing trade under control, and action is urgently needed?

In sections A, B, and C below, we have listed the current status of each species proposal recommended by the public, as well as species proposals we have been developing on our own. Please note that we have only listed these possible proposals. We have posted an extended version of this notice on our Web site at http://www.fws.gov/international, with text describing each possible proposal and explaining the rationale for the tentative U.S. position on each possible proposal. Copies of the extended version of the notice are also available from the Division of Management Authority at the above address.

In addition to the species proposals recommended by the public, we are considering whether to submit proposals on five additional species based on work being done by the United States as part of the review of the Appendices by the CITES Animals and Plants Committees.

A. What Species Proposals Is the United States Likely To Submit for Consideration at CoP14?

The United States is likely to develop and submit proposals for the following taxa. We welcome your comments, especially if you are able to provide any additional biological or trade information on these species. For each species, more detailed information is on file in the Division of Scientific Authority than is presented on our Website. For some of the species below, particularly those not native to the United States, additional consultations with range countries and knowledgeable experts are proceeding (see discussion), and final decisions are pending, based on the outcomes of those consultations and any additional information received. Furthermore, some of these proposals have arisen from the Review of the Appendices by the CITES Animals and Plants Committees.

Plants

1. Taxus cuspidata—Annotate to exclude specimens of the hybrid Taxus x media and all cultivars thereof.

Invertebrates

2. Pink and red coral (Corallium spp.)—List in Appendix II.

Fish

3. Sawfishes (Pristidae)—List in Appendix I.

B. On What Species Proposals Is the United States Still Undecided, Pending Additional Information and Consultations?

The United States is still undecided on whether to submit proposals for CoP14 for the following taxa. In some cases, we have not completed our consultations with relevant range countries. In other cases, we expect meetings to occur in the immediate future at which participants will generate important recommendations, trade analyses, or biological information on the taxon in question. For each species, more detailed information is available in the Division of Scientific Authority than is presented on our Web site. We welcome your comments, especially if you are able to provide any additional biological and trade information on these species. On our Web site, we delineate what additional information we are seeking or have sought to assist us in making our decision.

Plants

1. Dehesa bear-grass (Nolina interrata)—Transfer from Appendix I to Appendix II.

2. Arizona agave or New River agave (Agave arizonica)—Transfer from Appendix I to Appendix II.

3. Santa Cruz striped agave (Agave parviflora)—Transfer from Appendix I to Appendix II.

4. Oconee bells (Shortia galacifolia)—Remove from Appendix II.

Fish

5. Porbeagle shark (Lamna nasus)—List in Appendix II.

6. Devil and manta rays (Family Mobulidae)—List in Appendix I or II.

7. Banggai cardinalfish (Pterapogon kauderni)—List in Appendix I or II.

Birds

8. Gyrfalcon (Falco rusticolus)—Transfer the North American population from Appendix I to Appendix II.

Mammals

9. Bobcat (Lynx rufus)—Remove from Appendix II.

C. What Species Proposals Is the United States Not Planning To Submit for Consideration at CoP14, Unless We Receive Significant Additional Information?

The United States does not intend to submit proposals for the following taxa unless we receive significant additional information indicating that a proposal is warranted. Information currently available for each of the taxa listed below does not support a defensible listing proposal. We welcome your comments, especially any biological and trade information on these species that may cause us to reconsider the submission of a proposal. For each species, more detailed information is available in the Division of Scientific Authority than is presented on our Website, where we describe external factors that diminish the need for a U.S. listing proposal, as well as critical information gaps that prohibit us from developing a proposal.

Plants

1. American ginseng (Panax quinquefolius)—Remove from Appendix II.

2. Goldenseal (Hydrastis canadensis)—Remove from Appendix II.

Invertebrates

3. Perlemoen (Haliotis midae)—Action to protect the species.

Fish

4. Spiny dogfish (Squalus acanthias)—List in Appendix II.

5. Orange roughy (Hoplostethus atlanticus)—List in Appendix II.

Amphibians

6. Morelet's or black-eyed tree frog (Agalychnis moreletii)—Include in an Appendix.

7. Madagascar microhylid frogs (Scaphiophryne species)—Include in Appendix II.

Reptiles

8. Central American river turtle (Dermatemys mawii)—Transfer from Appendix II to Appendix I.

9. Parson's chameleon (Calumma parsonii parsonii)—Transfer from Appendix II to Appendix I.

Birds

10. Timneh grey parrot (Psittacus erithacus timneh)—Transfer from Appendix II to Appendix I.

Request for Information and Comments

We invite any information and comments concerning any of the possible CoP14 species proposals, resolutions, decisions, and agenda items discussed above. You must submit your information and comments to us no later than the date specified in DATES. Comments and materials received will be available for public inspection, by appointment, from 8 a.m. to 4 p.m., Monday through Friday, at either the Division of Management Authority or the Division of Scientific Authority.

Our practice is to make comments, including names and home addresses of respondents, available for public review during regular business hours. Individual respondents may request that we withhold their home address from the rulemaking record, which we will honor to the extent allowable by law. There also may be circumstances in which we would withhold from the rulemaking record a respondent's identity, as allowable by law. If you wish us to withhold your name and/or address, you must state this prominently at the beginning of your comment. However, we will not consider anonymous comments. We will make all submissions from organizations or businesses, and from individuals identifying themselves as representatives or officials of organizations or businesses, available for public inspection in their entirety.

Announcement of Public Meeting

We will hold a public meeting to discuss with you species proposals, as well as proposed resolutions, decisions, and agenda items that the United States is considering submitting for consideration at CoP14. The public meeting will be held on the date specified in DATES at the address specified in ADDRESSES. You can obtain directions to the building by contacting the Division of Management Authority (see FOR FURTHER INFORMATION CONTACT, above). Please note that the Rachel Carson Room is accessible to the handicapped and all persons planning to attend the meeting will be required to present photo identification when entering the building. Due to building security in the Department of the Interior, persons planning to attend the meeting must notify the Division of Management Authority by December 8, 2006. Persons who plan to attend the meeting and who require interpretation for the hearing impaired should notify the Division of Management Authority as soon as possible.

Observers

Article XI, paragraph 7 of CITES states the following:

Any body or agency technically qualified in protection, conservation or management of wild fauna and flora, in the following categories, which has informed the Secretariat of its desire to be represented at meetings of the Conference by observers, shall be admitted unless at least one-third of the Parties present object:

(a) International agencies or bodies, either governmental or non-governmental, and national governmental agencies and bodies; and

(b) National non-governmental agencies or bodies which have been approved for this purpose by the State in which they are located.

Once admitted, these observers shall have the right to participate but not to vote.

Persons wishing to be observers representing international non-governmental organizations (which must have offices in more than one country) at CoP14 may request approval directly from the CITES Secretariat. Persons wishing to be observers representing U.S. national non-governmental organizations at CoP14 must receive prior approval from our Division of Management Authority. Once we grant our approval, a U.S. national non-governmental organization is eligible to register with the Secretariat and must do so at least one month prior to the opening of CoP14 to participate as an observer. Individuals who are not affiliated with an organization may not register as observers. An international non-governmental organization with at least one office in the United States may register as a U.S. non-governmental organization if it prefers.

A request submitted to us for approval as an observer should include evidence of technical qualifications in protection, conservation, or management of wild fauna and/or flora, on the part of both the organization and the individual representative(s). The request should also include copies of the organization's charter and/or bylaws and a list of representatives it intends to send to CoP14. An organization that we have previously approved as an observer at a meeting of the Conference of the Parties within the past 5 years must submit a request but does not need to provide as much detailed information concerning its qualifications as an organization seeking approval for the first time. Organizations seeking approval for the first time should detail their experience in the protection, conservation, or management of wild fauna and/or flora, as well as their purposes for wishing to participate in CoP14 as an observer. These requests should be sent to the Division of Management Authority (see ADDRESSES).

Once we approve an organization as an observer, we will send the organization instructions for registration with the CITES Secretariat in Switzerland, including a meeting registration form and relevant travel and hotel information. A list of organizations approved for observer status at CoP14 will be available upon request from the Division of Management Authority just prior to the start of CoP14.

Future Actions

We expect the CITES Secretariat to provide us with a provisional agenda for CoP14 within the next several months. Once we receive the provisional agenda, we will announce it in a Federal Register notice and provide the CITES Secretariat's Web site URL, as well as a link to it on our Web site (http://www.fws.gov/international).

The United States will submit any species proposals, and proposed resolutions, decisions, and agenda items for consideration at CoP14 to the CITES Secretariat 150 days prior to the start of the meeting (i.e., by January 4, 2007). We will consider all available information and comments, including those presented at the public meeting (see DATES) or received in writing during the comment period, as we decide which species proposals, and proposed resolutions, decisions, and agenda items warrant submission by the United States for consideration by the Parties. Approximately 4 months prior to CoP14, we will post on our Web site an announcement of the species proposals, and proposed resolutions, decisions, and agenda items submitted by the United States to the CITES Secretariat for consideration at CoP14.

Through an additional notice and Web site posting in advance of CoP14, we will inform you about preliminary negotiating positions on resolutions, decisions, agenda items and amendments to the Appendices proposed by other Parties for consideration at CoP14. We will also publish an announcement of a public meeting tentatively to be held approximately 2 months prior to CoP14, to receive public input on our positions regarding items submitted by other Parties.

Authors: The primary authors of this notice are Frank Kohn and Clifton Horton, Division of Management Authority; under the authority of the U.S. Endangered Species Act of 1973, as amended (16 U.S.C. 1531 et seq.).

Marshall P. Jones, Jr.,
Acting Director.

[FR Doc. E6-18722 Filed 11-6-06; 8:45 am]

BILLING CODE 4310-55-P